DEPARTMENT OF HEALTH AND HUMAN SERVICES

Health Resources and Services Administration

Advisory Commission on Childhood Vaccines Meeting; Correction

AGENCY: Health Resources and Services Administration (HRSA), Department of Health and Human Services.

ACTION: Notice; correction.

SUMMARY: HRSA published a notice in the Federal Register on December 20, 2022, concerning 2023 calendar year meetings of the Advisory Commission on Childhood Vaccines (ACCV). The document contained incorrect dates for future meetings. The remaining 2023 ACCV meetings will be held on September 7, 2023, 10:00 a.m. Eastern time (ET)-4:00 p.m. ET and September 8, 2023, 10:00 a.m. ET-4:00 p.m. ET.

FOR FURTHER INFORMATION CONTACT: Pita Gomez, Principal Staff Liaison, Division of Injury Compensation Programs, HRSA, 5600 Fishers Lane, 08N186B, Rockville, Maryland 20857; (800) 338-2382; or ACCV@hrsa.gov.

SUPPLEMENTARY INFORMATION:

Correction

In the Federal Register of December 20, 2022, FR Doc. 2022-27543, page 77852, column 3, correct the Dates caption to read: “The ACCV meetings will be held on:

• March 1, 2023, 10:00 a.m. Eastern Time (ET)-4:00 p.m. ET;

• March 2, 2023, 10:00 a.m. ET-4:00 p.m. ET;

• September 7, 2023, 10:00 a.m. ET-4:00 p.m. ET;

• September 8, 2023, 10:00 a.m. ET-4:00 p.m. ET.”

Maria G. Button,
Director, Executive Secretariat.

[FR Doc. 2023-06673 Filed 3-30-23; 8:45 am]

BILLING CODE 4165-15-P